ENVIRONMENTAL PROTECTION AGENCY

[RCRA-2003-0007; FRL-7468-2]

2003 Resource Conservation and Recovery Act National Meeting

AGENCY: Environmental protection agency.

ACTION: Notice of public invitation to Resource Conservation and Recovery Act National Meeting.

SUMMARY: Notice is hereby given of public invitation to the 2003 Resource Conservation and Recovery Act (RCRA) National Meeting, “RCRA: Putting Resource Conservation into RCRA.” The meeting will be held August 12-15, 2003. This year along with EPA, the meeting is being cosponsored by the Air & Waste Management Association (A&WMA), Solid Waste Association of North America (SWANA), International City/County Management Association (ICMA), and Association of State and Territorial Solid Waste Management Officials (ASTSWMO). In addition, the meeting will also bring together state governments and tribes. This year's National Meeting focuses on the Resource Conservation Challenge, which is a major national effort to find ways to conserve natural resources through waste reduction and energy recovery programs. The RCRA National Meeting is a great opportunity to share with, and learn from, all interested stakeholders. It promotes new EPA initiatives, fosters discussion, and provides education and information on regional, state, and tribal RCRA issues.

DATES: Again this year the entire National Meeting is open to the public. The RCRA National Meeting opens on Tuesday, August 12, 2003 and ends Friday, August 15, 2003. Admission is no longer free. Registration fees are as follows:

Registration type | Advance registration | After July 19, 2003
Full; Non-govt | $425 | $525
Full; Govt (must provide valid ID) | 295 | 395
Daily; Non-govt | 250 | 320
Daily; Govt | 175 | 245
Presenter; Full Conference | 100 | 150
Student; full (must provide proof of full-time enrollment) | 130 | 130

Presenters are entitled to a daily registration, at no charge, on the day that they are speaking. The fee waiver is applicable only to one presenter per paper per presentation. If a presenter wishes to register for any additional portion of the conference, the full conference registration fee is required.

ADDRESSES: The 2003 RCRA National Meeting will be held at the Hyatt Regency Washington on Capitol Hill at 400 New Jersey Avenue, NW., Washington, DC. Registration and Meeting details are available on the Internet at: http://www.epa.gov/osw/meeting.

SUPPLEMENTARY INFORMATION: A. Status: Because seating is limited, preregistration is recommended; however, late and walk-in registration is available between 8 a.m-9 a.m. on Tuesday, August 12, 2003. To reduce costs and minimize paper, we encourage everyone to register electronically for the meetings and at the Hyatt hotel using the meeting web site. If electronic registration is not possible, please contact William Brandes, Anita Cummings, or Jean Schwab.

B. How Can I Get Copies of Related Information? EPA has established an official public docket for this action under Docket ID No. RCRA-2003-0007. The official public docket consists of the documents specifically referenced in this action, any public comments received, and other information related to this action. Although a part of the official docket, the public docket does not include Confidential Business Information (CBI) or other information whose disclosure is restricted by statute. The official public docket is the collection of materials that is available for public viewing at the OSWER Docket Center, EPA West, Room B102, 1301 Constitution Avenue, NW., Washington, DC 20460. The EPA Docket Center Public Reading Room is open from 8:30 a.m. to 4:30 p.m., Monday through Friday, excluding leagal holidays. The telephone number for the Public Reading Room is (202) 566-1744, and the telephone number for the OSWER Docket is (202) 566-0270.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available materials through the docket facility identified in Unit B. Once in the system, select “search,” then key in the appropriate docket identification number.

FOR FURTHER INFORMATION CONTACT: Williams Brandes (703-308-8871), Anita Cummings (703-308-8303), or Jean Schwab (703-308-8669), Office of Solid Waste, Mail Code 5302W, U.S. Environmental Protection Agency, Ariel Rios Building, 1200 Pennsylvania Avenue, NW., Washington DC 20460. You may also contact them by e-mail at brandes.william@epa.gov, cummings.anita@epa.gov, or schwab.jean@epa.gov.

Dated: March 6, 2003.
Robert Springer,
Director, Office of Solid Waste.

[FR Doc. 03-6461 Filed 3-17-03; 8:45 am]

BILLING CODE 6560-50-P